DEPARTMENT OF TRANSPORTATION

FEDERAL HIGHWAY ADMINISTRATION

[FHWA-DC-2010-01-D]

Notice of Withdrawal of the Notice of Intent for Klingle Road Environmental Impact Statement; Washington, DC

AGENCIES: Federal Highway Administration, District of Columbia Division; and District Department of Transportation.

ACTION: Notice of Withdrawal of the Notice of Intent to prepare an Environmental Impact Statement for Klingle Road.

SUMMARY: The U.S. Federal Highway Administration (FHWA) is issuing this notice to advise the public that, effective immediately, the Notice of Intent (NOI) (Federal Register Vol. 69, No 52; FR Doc 04-6027) to prepare an Environmental Impact Statement (EIS) for the proposed reopening of Klingle Road, NW., to vehicular access in Washington, DC, is being withdrawn. The NOI for the EIS was announced on March 18, 2004.

FOR FURTHER INFORMATION CONTACT: Federal Highway Administration, District of Columbia Division: Mr. Michael Hicks, Environmental/Urban Engineer, 1990 K Street, NW., Suite 510, Washington, DC 20006-1103, (202) 219-3536; or District Department of Transportation: Austina Casey, Project Manager, Planning, Policy and Sustainability Administration, 2000 14th Street, NW., 7th Floor, Washington, DC 20009, (202) 671-2740.

SUPPLEMENTARY INFORMATION: In June 2008, the District of Columbia Council passed legislation called the Klingle Road Sustainable Development Amendment Act of 2008 (DC Law 17-219; DC Official Code § 9-115.11). This legislation ended studies to reopen the barricaded segment of Klingle Road to vehicular traffic, and specifies that District Department of Transportation (DDOT) shall allocate and use Federal aid highway funds for the environmental remediation of Klingle Valley and the construction of a pedestrian and bicycle trail along the barricaded portion of Klingle Road, between Porter Street, NW., and Cortland Place, NW. Based on this legislation, the NOI to prepare an EIS will be withdrawn.

FHWA in conjunction with DDOT have determined that an Environmental Assessment (EA) will instead be prepared to evaluate a range of alternatives and impacts for the construction of a multi-use trail facility within the 0.7 mile barricaded portion of Klingle Road; including the restoration of Klingle Creek, in cooperation with the National Park Service (NPS). The proposed multi-use trail facility will be constructed using context sensitive design, to provide safe non-motorized transportation and recreational opportunities to the residents and visitors of the District of Columbia.

Issued: May 27, 2010.
Joseph C. Lawson,
Division Administrator, Federal Highway Administration, District of Columbia Division.

[FR Doc. 2010-13490 Filed 6-4-10; 8:45 am]

BILLING CODE 4910-22-P